DEPARTMENT OF ENERGY

Federal Energy Regulatory Commission

[Docket No. RP02-512-000]

Trailblazer Pipeline Company; Notice of Proposed Changes in FERC Gas Tariff

September 5, 2002.

Take notice that on August 29, 2002, Trailblazer Pipeline Company (Trailblazer) tendered for filing to become part of its FERC Gas Tariff, Third Revised Volume No. 1, certain tariff sheets, to be effective October 1, 2002.

Trailblazer states that the purpose of the filing is to implement the Annual Charge Adjustment (ACA) surcharge necessary for Trailblazer to recover from its customers annual charges assessed to it by the Commission pursuant to Part 382 of the Commission's Regulations. Trailblazer states that its new ACA rates will be $0.0021 per Dth.

Trailblazer states that copies of its filing are being mailed to its customers and interested state regulatory agencies.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, call (202) 502-8222 or for TTY, (202) 208-1659. Comments, protests and interventions may be filed electronically via the Internet in lieu of paper. The Commission strongly encourages electronic filings. See, 18 CFR 385.2001(a)(1)(iii) and the instructions on the Commission's Web site under the “e-Filing” link.

Linwood A. Watson, Jr.,
Deputy Secretary.

[FR Doc. 02-23175 Filed 9-17-02; 8:45 am]

BILLING CODE 6717-01-P